DEPARTMENT OF AGRICULTURE

Grain Inspection, Packers and Stockyards Administration

Opportunity for Designation in Maryland, New Jersey, and New York

AGENCY: Grain Inspection, Packers and Stockyards Administration, USDA.

ACTION: Notice and request for applications.

SUMMARY: The Grain Inspection, Packers and Stockyards Administration (GIPSA) has received inquiries, letters, and requests for official services in the currently unassigned states of Maryland, New Jersey, and New York. GIPSA plans to designate one or more organizations qualified to provide official services in Maryland, New Jersey, and New York. GIPSA is asking persons interested in providing official services in all or part of the unassigned areas of Maryland, New Jersey, and New York to submit an application for designation.

DATES: Applications must be postmarked or electronically dated on or before January 4, 2008.

ADDRESSES: We invite you to submit applications and comments on this notice. You may submit applications and comments by any of the following methods:

• To apply for designation, go to FGIS online, Web page https://fgis.gipsa.usda.gov/default_home_FGIS.aspx. Select Delegations/Designations and Export Registrations (DDR). You need e-authentication and a customer number prior to applying.

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This Action has been reviewed and determined not to be a rule or regulation as defined in Executive Order 12866 and Departmental Regulation 1512-1; therefore, the Executive Order and Departmental Regulation do not apply to this action.

Section 7(f)(1) of the United States Grain Standards Act, as amended (Act), authorizes GIPSA's Administrator to designate a qualified applicant to provide official services in a specified area after determining that the applicant is better able than any other applicant to provide such official services.

Section 7(g)(1) of the Act provides that designations of official agencies shall not end later than triennially and may be renewed according to the criteria and procedures prescribed in section 7(f) of the Act.

GIPSA is asking for applicants to provide official services in Maryland, New Jersey, and New York. The areas being considered for assignment to the applicant or applicants selected for designation, pursuant to section (7)(2) of the Act, are as follows:

The entire state of Maryland, except those export port locations within the State which are served by GIPSA.

The entire state of New Jersey, except those export port locations within the State which are served by GIPSA.

The entire state of New York, except those export port locations within the State which are served by GIPSA.

Opportunity for designation. Interested persons are hereby given the opportunity to apply for designation to provide official services in the geographic areas specified above under the provisions of section 7(f) of the Act and section 800.196(d) of the regulations issued thereunder. Designation in the specified geographic areas is for a period of no more than 3 years. To apply for designation, contact the Compliance Division at the address listed above for forms and information, or obtain applications at the GIPSA Web site, http://www.gipsa.usda.gov. Applications, comments, and other available information will be considered in determining which applicant will be designated.

Authority: 7 U.S.C. 71-87k.

Alan Christian,
Acting Administrator, Grain Inspection, Packers and Stockyards Administration.

[FR Doc. E7-23530 Filed 12-4-07; 8:45 am]

BILLING CODE 3410-KD-P